SURFACE TRANSPORTATION BOARD

[Docket No. AB 1304X]

Pacific Sun Railroad, L.L.C.—Discontinuance of Service and Trackage Rights Exemption—in San Diego County, Cal.

On August 17, 2020, Pacific Sun Railroad, L.L.C. (PSRR), filed a petition under 49 U.S.C. 10502 for exemption from the prior approval requirements of 49 U.S.C. 10903 to: (1) Discontinue its operations over approximately 21.5 miles of BNSF Railway Company (BNSF) rail line (the Leased Lines), consisting of the Escondido Subdivision, which extends from milepost 0.0 at Oceanside, Cal., to milepost 21.2 at Escondido, Cal., and the Miramar Spur, which extends approximately 0.3 miles eastward from milepost 252.9 at Miramar, Cal., on BNSF's San Diego Subdivision; and (2) discontinue local trackage rights over approximately 45.49 miles of BNSF rail line on BNSF's San Diego Subdivision (the Trackage Rights Line), extending from milepost 252.9 at Miramar to milepost 207.41 at the border of Orange County, Cal., and San Diego County, Cal. The Leased Lines and Trackage Rights Line collectively are referred to as the Lines. The Lines traverse U.S. Postal Service Zip Codes 92007, 92008, 92011, 92014, 92024, 92025, 92029, 92054, 92055, 92056, 92058, 92069, 92075, 92083, 92084, 92121, 92126, 92145, and 92672.

According to PSRR, it provides service on the Lines pursuant to an agreement with BNSF. PSRR explains that the agreement is due to terminate on September 30, 2020, and that BNSF will resume operation of the Lines in place of PSRR as of October 1, 2020. PSRR states that the proposed discontinuance will allow PSRR to end its common carrier obligations over the Lines but that no customer on the Lines will be without common carrier service as a consequence of the proposed discontinuance, as the discontinuance will merely facilitate an agreed-upon exchange of rail service providers from PSRR back to BNSF.

PSRR states that it believes the Lines do not contain any federally granted rights-of-way. PSRR also states that any documentation in its possession will be made available to those requesting it.

PSRR states that, because the Lines over which it seeks discontinuance authority represent the entire scope of its operations and PSRR will have no residual interest in railroad assets or any other regulated operations as a result of the proposed discontinuance, PSRR is entitled to relief from otherwise-applicable employee protective conditions.

By issuance of this notice, the Board is instituting an exemption proceeding pursuant to 49 U.S.C. 10502(b). A final decision will be issued by December 4, 2020.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.¹ Persons interested in submitting an OFA must first file a formal expression of intent to file an offer by September 14, 2020, indicating the intent to file an OFA for subsidy and demonstrating that they are preliminarily financially responsible. See 49 CFR 1152.27(c)(1)(i).

¹ The filing fee for OFAs can be found at 49 CFR 1002.2(f)(25).

All filings in response to this notice must refer to Docket No. AB 1304X and must be filed with the Surface Transportation Board either via e-filing or in writing addressed to 395 E Street SW, Washington, DC 20423-0001. In addition, a copy of each pleading must be served on PSRR's representative, Robert A. Wimbish, Fletcher & Sippel LLC, 29 North Wacker Drive, Suite 800, Chicago, IL 60606. Replies to this petition are due on or before September 24, 2020.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0305. Assistance for the hearing impaired is available through the Federal Relay Service at (800) 877-8339.

Board decisions and notices are available at www.stb.gov.

Decided: August 31, 2020.
By the Board, Allison C. Davis, Director, Office of Proceedings.
Brendetta Jones,
Clearance Clerk.

[FR Doc. 2020-19558 Filed 9-3-20; 8:45 am]

BILLING CODE 4915-01-P